DEPARTMENT OF THE INTERIOR

Fish and Wildlife Service

Notice of Meeting of the Trinity Adaptive Management Working Group

AGENCY: Fish and Wildlife Service, Interior.

ACTION: Notice of meeting.

SUMMARY: Pursuant to section 10(a)(2) of the Federal Advisory Committee Act (5 U.S.C. App. I), this notice announces a meeting of the Trinity Adaptive Management Working Group (TAMWG). The TAMWG affords stakeholders the opportunity to give policy, management, and technical input concerning Trinity River restoration efforts to the Trinity Management Council. Primary objectives of the meeting will include: Trinity River Restoration Program budget review, establishment of Committee bylaws, a presentation regarding public access, review of a request to the TAMWG to recommend that the Trinity River Restoration Program encourage the Bureau of Land Management to acquire a parcel of land at Gold Bar on the Trinity River as a long-term course sediment source for the Restoration Program, a Restoration Program presentation of the Rush Creek Delta Project, review of a letter from Humboldt County to the Secretary of the Interior regarding Klamath River Fishery Water Supply, and an Executive Director's report. The meeting is open to the public.

DATES: The Trinity Adaptive Management Working Group will meet from 9 a.m. to 5 p.m. on Thursday, June 19, 2003, and from 8 a.m. to 5 p.m. on Friday, June 20, 2003.

ADDRESSES: The meeting will be held at the Victorian Inn, 1709 Main Street, Weaverville, CA 96093.

FOR FURTHER INFORMATION CONTACT: Dr. Mary Ellen Mueller of the U.S. Fish and Wildlife Service, California/Nevada Operations Office, 2800 Cottage Way, W-2606, Sacramento, California 95825, (916) 414-6464. Dr. Mary Ellen Mueller is the designee of the committee's Federal Official—Steve Thompson, Manager of the U.S. Fish and Wildlife Service, California/Nevada Operations Office.

SUPPLEMENTARY INFORMATION: For background information and questions regarding the Trinity River Restoration Program, please contact Douglas Schleusner, Executive Director, Trinity River Restoration Program, P.O. Box 1300, 1313 South Main Street, Weaverville, California 96093, (530) 623-1800.

Dated: May 21, 2003.
Ken McDermond,
Acting Manager, California/Nevada Operations Office, Sacramento, CA.

[FR Doc. 03-13474 Filed 5-29-03; 8:45 am]

BILLING CODE 4310-55-P